DEPARTMENT OF COMMERCE

Foreign-Trade Zones Board

[B-53-2012]

Foreign-Trade Zone 20—Suffolk, VA; Authorization of Production Activity; Usui International Corporation (Diesel Engine Fuel Lines); Chesapeake, VA

On June 28, 2012, the Virginia Port Authority, grantee of FTZ 20, submitted a notification of proposed production activity to the Foreign-Trade Zones (FTZ) Board on behalf of Usui International Corporation within FTZ 20—Site 9, in Chesapeake, Virginia.

The notification was processed in accordance with the regulations of the FTZ Board (15 CFR part 400), including notice in the Federal Register inviting public comment (77 FR 48127-48128, 8-13-2012). The FTZ Board has determined that no further review of the activity is warranted at this time. The production activity described in the notification is authorized, subject to the FTZ Act and the Board's regulations, including Section 400.14.

Dated: November 30, 2012.
Andrew McGilvray,
Executive Secretary.

[FR Doc. 2012-29534 Filed 12-5-12; 8:45 am]

BILLING CODE 3510-DS-P